DEPARTMENT OF LABOR

Employment and Training Administration

[TA-W-58,078]

Kolpak-KMT Refrigeration; A Subsidiary of the Manitowoc Company, Inc.; River Falls, WI; Notice of Termination of Investigation

Pursuant to Section 221 of the Trade Act of 1974, as amended, an investigation was initiated on October 6, 2005 in response to a petition filed by a company official on behalf of workers at Kolpak-KMT Refrigeration, a subsidiary of The Manitowoc Company, Inc., River Falls, Wisconsin.

The petitioner has requested that the petition be withdrawn. Consequently, the investigation has been terminated.

Signed at Washington, DC, this 18th day of October, 2005.
Richard Church,
Certifying Officer, Division of Trade Adjustment Assistance.

[FR Doc. E5-6134 Filed 11-3-05; 8:45 am]

BILLING CODE 4510-30-P